NUCLEAR REGULATORY COMMISSION

[Docket No. 052-00008]

Notice of Issuance of Early Site Permit for Dominion Nuclear North Anna, LLC Located 40 Miles North-Northwest of the City of Richmond, VA

AGENCY: U.S. Nuclear Regulatory Commission.

ACTION: Notice of Issuance of Early Site Permit.

FOR FURTHER INFORMATION CONTACT: Thomas Kevern, Senior Project Manager, ESBWR/ABWR Projects Branch 1, Division of New Reactor Licensing, Office of New Reactors, U.S. Nuclear Regulatory Commission, Washington, DC 20555-0001.

Telephone: (301) 415-0224; fax: (301) 415-5199; e-mail: tak@nrc.gov.

SUPPLEMENTARY INFORMATION:

I. Introduction

Pursuant to Title 10, Section 2.106, “Notice of Issuance,” of the Code of Federal Regulations (10 CFR 2.106), the U.S. Nuclear Regulatory Commission (NRC) is providing notice of the issuance of early site permit (ESP) ESP-003 to Dominion Nuclear North Anna, LLC (Dominion or the permit holder), for approval of a site located near Lake Anna in Louisa County, Virginia (VA), approximately 40 miles north-northwest of Richmond, VA, for one or more nuclear power reactors; this action is separate from the filing of an application for a construction permit or combined license for such a facility. The NRC has found that the application for an ESP filed by Dominion complies with the applicable requirements of the Atomic Energy Act of 1954, as amended, and the applicable rules and regulations of the Commission, and all required notifications to other agencies or bodies have been duly made. Taking into consideration the site criteria contained in 10 CFR Part 100, “Reactor Site Criteria,” a reactor, or reactors, having design characteristics that fall within the site characteristics and controlling parameters of the permit holder's ESP site can be constructed and operated without undue risk to the health and safety of the public.

There is reasonable assurance that the permit holder will comply with the regulations in 10 CFR Chapter I, and the health and safety of the public will not be endangered. Issuance of an ESP to the permit holder will not be inimical to the common defense and security or the health and safety of the public.

There is no significant impediment to the development of emergency plans, as referenced in 10 CFR 52.17(b)(1) and 10 CFR 52.18, “Standards for Review of Applications.” The descriptions of contacts and arrangements made with Federal, State, and local governmental agencies with emergency planning responsibilities, as referenced in 10 CFR 52.17(b)(3), are acceptable. Major features A, B, C, D, E, F, G, I, J, K, L, O, and P of the emergency plan are acceptable to the extent specified in NUREG-1835, “Safety Evaluation Report for an Early Site Permit (ESP) at the North Anna ESP Site,” issued September 2005 and “Safety Evaluation Report for an Early Site Permit (ESP) at the North Anna ESP Site, Supplement 1” issued November 2006. The issuance of this ESP is in accordance with the National Environmental Policy Act, as amended, and with applicable sections of 10 CFR Part 51, “Environmental Protection Regulations for Domestic Licensing and Related Regulatory Functions,” as referenced by Subpart A, “Early Site Permits,” of 10 CFR Part 52, “Licenses, Certifications, and Approvals for Nuclear Power Plants,” and all applicable requirements therein have been satisfied. The permit holder's request for the proposed permit was previously noticed in the Federal Register on December 2, 2003 (68 FR 67489), with a notice of hearing and opportunity to petition for leave to intervene.

This ESP complies with the standards and requirements of the Atomic Energy Act of 1954, as amended, and the NRC's rules and regulations as set forth in 10 CFR Chapter I and the National Environmental Policy Act of 1969. Accordingly, the NRC issued this ESP on November 27, 2007, and it was effective immediately.

II. Further Information

The NRC has prepared a Safety Evaluation Report (SER) and a Final Environmental Impact Statement (FEIS) that document the information that the staff reviewed and NRC's conclusion. In accordance with 10 CFR 2.390, “Public Inspections, Exemptions, Requests for Withholding,” details with respect to this action, including the SER and accompanying documentation included in the ESP package, are available electronically via the NRC's Electronic Reading Room at http://www.nrc.gov/reading-rm/adams.html. From this site, users can access the NRC's Agencywide Documents Access and Management System (ADAMS), which provides text and image files of the NRC's public documents. The following ADAMS accession numbers apply to the documents related to this notice:

ML052710305 NUREG-1835, “Safety Evaluation Report for an Early Site Permit (ESP) at the North Anna ESP Site,” September 2005

ML063170371 NUREG-1835, “Safety Evaluation Report for an Early Site Permit (ESP) at the North Anna ESP Site (NUREG-1835 Supplement 1),” November 2006

ML063480261 NUREG-1811, Vol. 1, “Environmental Impact Statement for an Early Site Permit (ESP) at the North Anna ESP Site, Final Report, Main Report,” December 31, 2006

ML063480263 NUREG-1811, Vol. 2, “Environmental Impact Statement for an Early Site Permit (ESP) at the North Anna ESP Site, Final Report, Appendices E & F,” December 31, 2006

ML042010009 North Anna Early Site Permit Application Package, September 25, 2003

ML073180440 North Anna Early Site Permit

Persons who do not have access to ADAMS or who encounter problems in accessing the documents located in ADAMS should contact the NRC Public Document Room (PDR) Reference staff at 1-800-397-4209 or 301-415-4737, or by e-mail to pdr@nrc.gov.

These documents may also be viewed electronically on the public computers located at the NRC's PDR, One White Flint North, Room O1 F21, 11555 Rockville Pike, Rockville, MD 20852. The PDR reproduction contractor will copy documents for a fee.

Dated at Rockville, Maryland, this 27th day of November 2007.
For the Nuclear Regulatory Commission.
Mohammed Shuaibi,
Chief, ESBWR/ABWR Projects Branch 1, Division of New Reactor Licensing, Office of New Reactors.

[FR Doc. E7-23468 Filed 12-3-07; 8:45 am]

BILLING CODE 7590-01-P